ELECTION ASSISTANCE COMMISSION

Sunshine Act Notice

AGENCY: United States Election Assistance Commission.

ACTION: Notice of public meeting agenda.

Date and Time: Tuesday, October 26, 2004, 10 a.m.-12 noon.

Place: U.S. Election Assistance Commission, 1225 New York Ave., NW., Suite 1100, Washington, DC 20005, (Metro Stop: Metro Center).

Agenda: The Commission will receive presentations from other Federal agencies regarding Election Day procedures. The Commission will also review the following: State preparations for the November 2nd election; the status of State administration of provisional voting; information gathered from on site visits to States and meetings with State election officials since January; tools in place for communicating with election officials to monitor Election Day developments; Election Day schedules of Commissioners. The Commission will also receive updates on the following: November Election Day Research Project; Title II Requirements Payments, HAVA College Program; EAC Poll Worker Initiative; EAC management topics.

FOR FURTHER INFORMATION CONTACT: Bryan Whitener, Telephone: (202) 566-3100.

Ray Martinez III,
Commissioner, U.S. Election Assistance Commission.

[FR Doc. 04-23502 Filed 10-15-04; 3:33 pm]

BILLING CODE 6820-YN-M